DEPARTMENT OF HEALTH AND HUMAN SERVICES

National Institutes of Health

National Library of Medicine; Cancellation of Meeting

Notice is hereby given of the cancellation of the PubMed Central National Advisory Committee, October 10, 2001, 8:30 a.m. to October 10, 2001, 4:00 p.m., National Library of Medicine, Board Room, Bldg. 38, 2E-09, 8600 Rockville Pike, Bethesda, MD 20894 which was published in the Federal Register on August 23, 2001, 66 FR 44366.

The meeting is cancelled and will be postponed for a later date due to problems with airline flights and attendance.

Dated: September 27, 2001.
LaVerne Y. Stringfield,
Director, Office of Federal Advisory Committee Policy.

[FR Doc. 01-24847 Filed 10-3-01; 8:45 am]

BILLING CODE 4140-01-M